DEPARTMENT OF COMMERCE

National Oceanic and Atmospheric Administration

50 CFR Part 300

[Docket No. 230418-0104]

RIN 0648-BJ85

International Affairs; Antarctic Marine Living Resources Convention Act

AGENCY: National Marine Fisheries Service (NMFS), National Oceanic and Atmospheric Administration (NOAA), Commerce.

ACTION: Proposed rule; reopening of comment period.

SUMMARY: NMFS announces the reopening of the public comment period for 15 days on the proposed rule to revise its Antarctic Marine Living Resources Convention Act regulations that implement the trade-monitoring program for frozen and fresh Dissostichus species, commonly marketed or referred to as Chilean seabass or Patagonian toothfish. The original 30-day comment period ended on June 5, 2023. We received comments in the final days of the comment period requesting an extension. We are therefore reopening the comment period from June 15, 2023 to June 30, 2023 to allow more time for submittal of public comments. Comments previously submitted need not be resubmitted.

DATES: Written comments must be received by June 30, 2023.

ADDRESSES: You may submit comments on this document, identified by NOAA-NMFS-2023-0022, by any of the following methods:

Electronic Submission: Submit all electronic public comments via the Federal e-Rulemaking Portal. Go to https://www.regulations.gov and enter NOAA-NMFS-2023-0022 in the Search box. Click on the “Comment” icon, complete the required fields, and enter or attach your comments.

Mail: Submit written comments to Mi Ae Kim, Office of International Affairs, Trade, and Commerce, National Marine Fisheries Service, 1315 East-West Highway (F/IS5), Silver Spring, MD 20910.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Mi Ae Kim, Office of International Affairs, Trade, and Commerce, NMFS (phone 301-427-8365, or email mi.ae.kim@noaa.gov).

SUPPLEMENTARY INFORMATION: On May 5, 2023, NMFS proposed revising regulations that implement the trade-monitoring program for frozen and fresh Dissostichus species (88 FR 29043). During the comment period, we received requests to extend the public comment period. As these requests were received too late to allow for an extension notice, we are reopening the comment period from June 15, 2023 to June 30, 2023.

Dated: June 9, 2023.
Samuel D. Rauch, III,
Deputy Assistant Administrator for Regulatory Programs, National Marine Fisheries Service.

[FR Doc. 2023-12804 Filed 6-14-23; 8:45 am]

BILLING CODE 3510-22-P